DEPARTMENT OF AGRICULTURE

Forest Service

Southwest Oregon Province Advisory Committee

AGENCY: Forest Service, USDA.

ACTION: Notice of meeting.

SUMMARY: The Southwest Oregon Province Advisory Committee will meet on November 19, 2003 in Reedsport, Oregon in the Umpqua Discovery Center at 409 Riverfront Way. The meeting will begin at (9 a.m. and continue until 5 p.m. Agenda items to be covered include: (1) Development of Work Plan; (2) Public Comment; (3) Settlement Agreement with AFRC; (4) BLM Resource Management Plan revision process; and (5) Future Agenda Items.

FOR FURTHER INFORMATION CONTACT: Direct questions regarding this meeting to Jim Hays, Province Advisory Committee Coordinator, USDA Forest Service, Prospect Ranger District, 47201 Highway 62, Prospect, Oregon 97536, phone (541) 560-3432.

Dated: October 21, 2003.
Scott D. Conroy,
Designated Federal Official.

[FR Doc. 03-26978 Filed 10-24-03; 8:45 am]

BILLING CODE 3410-11-M